FEDERAL COMMUNICATIONS COMMISSION

[OMB 3060-1081; FR ID 122614]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before March 20, 2023. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

OMB Control Number: 3060-1081.

Title: Section 1.2002, 54.201, 54.202 Telecommunications Carriers Eligible for Universal Service Support.

Form Number: N/A.

Type of Review: Extension of a currently approved collection.

Respondents: Business or other for-profit.

Number of Respondents and Responses: 20 respondents; 20 responses.

Estimated Time per Response: 40 hours.

Obligation to Respond: Required to obtain or retain benefits. Statutory authority is contained in sections 201(b), 214(e)(6), and 303(r) of the Communications Act of 1934, as amended, 47 U.S.C. 201(b), 214(e)(6), 303(r).

Frequency of Response: Annual reporting requirement.

Total Annual Burden: 800 hours.

Total Annual Cost: No cost.

Privacy Act Impact Assessment: No impact(s).

Nature of Extent of Confidentiality: If respondents submit information which respondents believe is confidential, respondents may request confidential treatment of such information pursuant to section 0.459 of the Commission's rules, 47 CFR 0.459.

Needs and Uses: Designation as an ETC makes a telecommunications carrier eligible to receive support from the universal service high-cost and low-income programs, which support the extension of telecommunications services to underserved rural communities. We note that information collections associated with the Lifeline-only ETC designations in section 54.202 are reflected in Control No. 3060-0819. In the absence of this information collection, the Commission's ability to fulfill its statutory obligation and to oversee the use of federal universal service funds and to combat waste, fraud, and abuse in the use of federal funds would be compromised. A petitioner seeking Commission designation as an ETC must: certify that it offers or intends to offer all services designated for support by the Commission pursuant to section 254(c) of the Act (which service must be offered on a common carriage basis). § 54.201(d)(1); certify that it offers or intends to offer the supported services (as defined in § 54.101, as “voice telephony services”) either using its own facilities or a combination of its own facilities and resale of another carrier's services. § 54.201(d)(1); provide a description of how the petitioner advertises the availability of supported services and the charges therefor using media of general distribution. § 54.201(d)(2); submit a detailed description of the geographic service area for which the petitioner requests to be designated as an ETC. § 54.201(d)(1); certify that it will comply with the service requirements applicable to the support that it receives. § 54.202(a)(1)(i), submit a five-year plan that describes with specificity proposed improvements or upgrades to the applicant's network throughout its proposed service area, with estimates of the area and population that will be served as a result of the improvements. § 54.202(a)(1)(ii); demonstrate its ability to remain functional in emergency situations by showing that it: has a reasonable amount of back-up power to ensure functionality without an external power source; can reroute traffic around damaged facilities; can manage traffic spikes resulting from emergency situations. § 54.202(a)(2).

An ETC must also demonstrate that it will satisfy applicable consumer protection and service quality standards. A commitment by wireless applicants to comply with the Cellular Telecommunications and internet Association's Consumer Code for Wireless Service will satisfy this requirement. § 54.202(a)(3).

Section 1.2002(a)-(b), requires that before any “new, modified, and/or renewed instrument of authorization from the Commission,” including but not limited to an ETC designation, a carrier must certify that neither it, nor any party to the petition, is subject to a denial of benefits pursuant to the Anti-Drug Abuse Act of 1988. § 1.2002(a)-(b).

A carrier seeking ETC designation for any part of Tribal lands shall provide a copy of its petition to the affected tribal government and tribal regulatory authority, as applicable, at the time it files its petition with the Commission. In addition, the Commission will send any public notice seeking comment on any petition for designation as an ETC on Tribal lands, at the time it is released, to the affected tribal government and tribal regulatory authority, as applicable, by the most expeditious means available, § 54.202(c). This information collection addresses the burdens associated with these requirements.

Federal Communications Commission.
Marlene Dortch,
Secretary, Office of the Secretary.

[FR Doc. 2023-00643 Filed 1-13-23; 8:45 am]

BILLING CODE 6712-01-P